INTERNATIONAL TRADE COMMISSION

[USITC SE-03-017]

Sunshine Act Meeting

AGENCY: International Trade Commission.

Time and Date: June 16, 2003, at 2 p.m.

Place: Room 101, 500 E Street, SW., Washington, DC 20436, Telephone: (202) 205-2000.

Status: Open to the public.

Matters to be Considered: 1. Agenda for future meetings: none.

2. Minutes.

3. Ratification list.

4. Inv. Nos. 731-TA-1034-1035 (Preliminary) (Certain Color Television Receivers from China and Malaysia)—briefing and vote. (The Commission is currently scheduled to transmit its determination to the Secretary of Commerce on June 16, 2003; Commissioners' opinions are currently scheduled to be transmitted to the Secretary of Commerce on or before June 23, 2003.)

5. Outstanding action jackets: None.

In accordance with Commission policy, subject matter listed above, not disposed of at the scheduled meeting, may be carried over to the agenda of the following meeting.

Issued: June 5, 2003.

By order of the Commission.
Marilyn R. Abbott,
Secretary to the Commission.

[FR Doc. 03-14619 Filed 6-5-03; 3:07 pm]

BILLING CODE 7020-02-P